DEPARTMENT OF AGRICULTURE

Natural Resources Conservation Service

Little Red River Water Management Project; White County, AR

AGENCY: Natural Resources Conservation Service, USDA.

ACTION: Notice of intent to prepare an environmental impact statement.

SUMMARY: Pursuant to section 102(2)(C) of the National Environmental Policy Act of 1969; the Council on Environmental Quality Guidelines (40 CFR part 1500); the Natural Resources Conservation Service, U.S. Department of Agriculture, gives notice that an environmental impact statement is being prepared for the creation of a water management plan to assist the Little Red River Regional Irrigation District in its efforts to reduce the useage of declining groundwater and to enhance fish and wildlife habitat. The project area is located in White County, Arkansas.

FOR FURTHER INFORMATION CONTACT: Kalven L. Trice, State Conservationist, Natural Resources Conservation Service, Room 3416 Federal Building, 700 West Capitol Avenue, Little Rock, Arkansas 72201, Telephone (501) 301-3100.

SUPPLEMENTARY INFORMATION: The project area comprises approximately 81,000 acres of which 35,000 irrigated acres are currently used for grain production such as soybeans and rice. A large majority of the marginal cropland has been converted to non-crop uses such as grass cover and reforestation through the Natural Resources Conservation Service' Conservation Reserve Program. In addition, many acres of on-farm water storage reservoirs and tailwater recovery systems have already been installed under a previous Natural Resources Conservation watershed project. Due to potential public concern regrading the project, Kalven L. Trice, State Conservationist, has determined that the preparation and review of an environmental impact statement is needed for this project.

Alternatives presently under consideration other than the “no Action” alternative, include the diversion and delivery of water from the Little Red River near West Point, Arkansas, construction of on-farm water storage reservoirs, underground pipelines, tailwater recovery systems, and improved irrigation management. In addition, the feasibility of providing water to the Arkansas Game and Fish Commission Raft Creek Wildlife Management Area (WMA) will also be explored.

A draft environmental impact statement (DEIS) will be prepared and circulated for review by agencies and the public. The Natural Resources Conservation Service invites participation and consultation of agencies and individuals that have special expertise, legal jurisdiction, or interest in the preparation of the draft environmental impact statement. A public scoping meeting will be held to solicit input from the public and to determine the scope of the environmental impact statement on August 15, 2002 from 7 p.m. to 9 p.m. at the Griffithville Senior Citizen's Center located at 208 Main Street (Hwy 385) in Griffithville, Arkansas.

Submit written comments and suggestions on the proposal, or requests to be placed on the EIS mailing list, to Jim Ellis, Biologist, Natural Resources Conservation Service, Natural Resources Planning Staff, Room 3416, Federal Building, 700 West Capitol Avenue, Little Rock, Arkansas 72201, or e-mail to Jim.Ellis@ar.usda.gov.

(This activity is listed in the Catalog of Federal Domestic Assistance under No. 10.904—Watershed Protection and Flood Prevention—and is subject to the provisions of Executive Order 12372, which requires intergovernmental consultation with State and local officials.)

Dated: July 22, 2002.
David A. Weeks,
Assistant State Conservationist, Natural Resources Planning.

[FR Doc. 02-18909 Filed 7-25-02; 8:45 am]

BILLING CODE 3210-16-P